DEPARTMENT OF LABOR

Employment and Training Administration

[TA-W-63,278]

Wheeling Pittsburgh Steel Corporation, Including On-Site Leased Workers from Pro Unlimited, Allenport, PA; Amended Notice of Revised Determination on Reconsideration

In accordance with Section 223 of the Trade Act of 1974 (19 U.S.C. 2273), and Section 246 of the Trade Act of 1974 (26 U.S.C. 2813), as amended, the Department of Labor issued a Notice of Revised Determination on Reconsideration on August 11, 2008. The notice was published in the Federal Register on August 19, 2008 (73 FR 48395).

At the request of the State agency, the Department reviewed the Notice of Revised Determination on Reconsideration for workers of the subject firm. The workers are engaged in the production of cold rolled sheet coils.

New information shows that leased workers from Pro Unlimited were employed on-site at the Allenport, Pennsylvania location of Wheeling Pittsburgh Steel Corporation. The Department has determined that these workers were sufficiently under the control of Wheeling Pittsburgh Steel Corporation to be considered leased workers.

Based on these findings, the Department is amending this revised determination to include workers leased from Pro Unlimited working on-site at the Allenport, Pennsylvania location of the subject firm.

The intent of the Department's certification is to include all adversely affected secondary workers employed at Wheeling Pittsburgh Steel Corporation, Allenport, Pennsylvania.

The amended notice applicable to TA-W-63,278 is hereby issued as follows:

“All workers of Wheeling Pittsburgh Steel Corporation, including on-site leased workers from Pro Unlimited, Allenport, Pennsylvania, who became totally or partially separated from employment on or after April 21, 2007, through August 11, 2010, are eligible to apply for adjustment assistance under Section 223 of the Trade Act of 1974, and are also eligible to apply for alternative trade adjustment assistance under Section 246 of the Trade Act of 1974.”

Signed at Washington, DC this 12th day of September 2008.
Linda G. Poole,
Certifying Officer, Division of Trade Adjustment Assistance.

[FR Doc. E8-22126 Filed 9-22-08; 8:45 am]

BILLING CODE 4510-FN-P